DEPARTMENT OF HOMELAND SECURITY

Transportation Security Administration

Intent To Request Renewal From OMB of One Current Public Collection of Information: Baseline Assessment for Security Enhancement (BASE) Program

AGENCY: Transportation Security Administration, DHS.

ACTION: 60-Day notice.

SUMMARY: The Transportation Security Administration (TSA) invites public comment on one currently approved Information Collection Request (ICR), Office of Management and Budget (OMB) control number 1652-0062 abstracted below that we will submit to OMB for renewal in compliance with the Paperwork Reduction Act (PRA). On August 21, 2015, OMB approved TSA's request to combine two previously approved BASE ICRs (1652-0061 and 1652-0062) into a single request.¹ TSA later requested an emergency revision due to requirements in the Gerardo Hernandez Airport Security Act of 2015,² addressing active shooter training and communication processes. OMB approved the emergency revision on February 29, 2016.³ TSA is now seeking to renew the collection as it expires on August 31, 2016. The ICR assesses the current security practices in the mass transit/passenger rail transit and highway and motor carrier industries by way of the Baseline Assessment for Security Enhancement (BASE) program, which encompasses site visits and interviews, and is part of the larger domain awareness, prevention, and protection program supporting TSA's and the Department of Homeland Security's (DHS) missions. This voluntary collection allows TSA to conduct transportation security-related assessments during site visits with security and operating officials of certain surface transportation entities.

¹ See ICR Reference No. 201407-1652-001.

² Public Law 114-50, 129 Stat. 490, Section 7 (Sept. 24, 2015).

³ See ICR Reference No. 201506-1652-003.

DATES: Send your comments by June 13, 2016.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and re-approval of the following voluntary information collection, TSA is soliciting comments to—

(1) Evaluate whether the proposed information request is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0062; Baseline Assessment for Security Enhancement (BASE) Program. Under the Aviation and Transportation Security Act (ATSA) and delegated authority from the Secretary of Homeland Security, TSA has broad responsibility and authority for “security in all modes of transportation including security responsibilities over modes of transportation that are exercised by the Department of Transportation.” ⁴ TSA is required to “assess the security of each surface transportation mode and evaluate the effectiveness and efficiency of current Federal Government surface transportation security initiatives.” E.O. 13416, sec. 3(a) (Dec. 5, 2006).

⁴ See Public Law 107-71, 115 Stat. 597 (Nov. 19, 2001), codified at 49 U.S.C. 114(d). The TSA Administrator's current authorities under ATSA have been delegated to him by the Secretary of Homeland Security. Section 403(2) of the Homeland Security Act (HSA) of 2002, Public Law 107-296, 116 Stat. 2315 (2002), transferred all functions of TSA, including those of the Secretary of Transportation and the Under Secretary of Transportation of Security related to TSA, to the Secretary of Homeland Security. Pursuant to DHS Delegation Number 7060.2, the Secretary delegated to the Assistant Secretary (now referred to as the Administrator of TSA), subject to the Secretary's guidance and control, the authority vested in the Secretary with respect to TSA, including that in sec. 403(2) of the HSA.

TSA developed the Baseline Assessment for Security Enhancement (BASE) program in 2007, in an effort to engage with surface transportation entities to establish a “baseline” of security and emergency response operations. This program was initially created for mass transit systems (including both rail and bus operations) and passenger railroads (MT/PR). However, based on the success of the program, TSA developed the Highway (HWY) BASE program in 2012, with full implementation in 2013. This incorporated trucking, school bus contractors, school districts, and over-the-road motor coach. This voluntary program has served to evaluate and collect physical and operational preparedness information and critical assets and key point-of-contact lists. The program also reviews emergency procedures and domain awareness training and provides an opportunity to share industry best practices.

TSA needs complete and consistent data about these transportation security programs to perform it mission. While many MT/PR and HWY entities have security and emergency response plans or protocols in place, the BASE program is the only available method which consistently evaluates implementation of these programs, their content, and benchmarks. The program provides TSA with real-time information on current security practices within the MT/PR and HWY modes of the surface transportation sector. This information also allows TSA to dynamically adapt its programs and recommendations to the changing threat within the context of the current security posture of these entities. Without this information, TSA's ability to perform its security mission would be severely hindered. Additionally, the assessment process fosters relationships critical to TSA's ability to interact effectively with those surface transportation entities participating in the BASE program.

On August 21, 2015, OMB approved TSA's request to combine two previously approved BASE ICRs (1652-0061 and 1652-0062) into a single request. See ICR Reference No. 201407-1652-001. Subsequently, the Gerardo Hernandez Airport Security Act of 2015 (the Act) directed TSA to conduct outreach to all passenger transportation agencies and providers with high-risk facilities . . . to verify such agencies and providers have in place plans to respond to active shooters, acts of terrorism, or other security-related incidents that target passengers; and to identify best practices for security incident planning, management, and training. See section 7 of Public Law 114-50, 129 Stat. 490 (Sept. 24, 2015). As a result of these requirements, TSA added seven (7) additional questions to the MT/PR BASE and five (5) additional questions to the HWY BASE. OMB approved the emergency revision on February 29, 2016, which expires on August 31, 2016. See ICR Reference No. 201506-1652-003. TSA is now seeking renewal of this revised information collection for the maximum three-year approval period.

Description of Data Collection

In carrying out the voluntary BASE program, TSA's Transportation Security Inspectors-Surface (TSIs-S) conduct BASE reviews during site visits with security and operating officials of MT/PR and HWY systems throughout the Nation. The TSIs-S receive and document relevant information using a standardized electronic checklist. Advance coordination and planning ensures the efficiency of the assessment process. The TSIs-S review and analyze the stakeholders' security plan, if adopted, and determine if the mitigation measures included in the plan are being effectively implemented, while providing additional resources for further security enhancement. In addition to examining the security plan document, TSA reviews one or more assets of the private and/or public owner/operator.

During BASE site visits of MT/PR and HWY entities, TSIs-S collect information and complete a BASE checklist from the review of each entity's documents, plans, and procedures. They also interview appropriate entity personnel and conduct system observations prompted by questions raised during the document review and interview stages. TSA conducts the interviews to ascertain and clarify information on security measures and to identify security gaps. The interviews also provide TSA with a method to encourage the surface transportation entities participating in the BASE reviews to be diligent in effecting and maintaining security-related improvements.

While TSA has not set a limit on the number of BASE program reviews to conduct, TSA estimates it will conduct approximately 40 MT/PR BASE reviews and approximately 50 HWY BASE reviews on an annual basis. TSA estimates that the hour burden per MT/PR entity to engage its security and/or operating officials with inspectors in the interactive BASE program review process is approximately 11.7 hours. Also, TSA estimates that the hour burden per HWY entity to engage its security and/or operating officials with inspectors in the interactive BASE program review process is approximately 1.8 hours. Thus, the total annual hour burden for the MT/PR BASE program review is 468 hours annually (40 × 11.7 hours = 468 hours) and for HWY BASE 90 hours annually (50 × 1.8 hours = 90 hours).

Dated: April 8, 2016.
Christina A. Walsh,
TSA Paperwork Reduction Act Officer, Office of Information Technology.

[FR Doc. 2016-08568 Filed 4-13-16; 8:45 am]

BILLING CODE 9110-05-P